DEPARTMENT OF ENERGY

Federal Energy Regulatory Commission

[Docket No. EC01-79-000]

Strategic Energy, L.L.C.; Notice of Filing

April 10, 2001.

Take notice that on April 6, 2001, Strategic Energy, L.L.C. (Strategic Energy), filed with the Federal Energy Regulatory Commission (the Commission) a Supplement to it's Application filed on March 8, 2001 pursuant to section 203 of the Federal Power Act and Part 33 of the Commission's Regulations for authorization of the transfer of indirect ownership interests in the Applicant. The Applicant states that the proposed transaction is between two current indirect owners of the Applicant that raises no issues under the Commission's Merger Guidelines. The Supplement clarifies certain terminology and states that the application would not adversely affect rates or impair state or federal regulation.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before April 20, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-9297 Filed 4-13-01; 8:45 am]

BILLING CODE 6717-07-M